DEPARTMENT OF ENERGY

Federal Energy Regulatory Commission

[Project No. 14751-000]

Alpine Pacific Utilities, LLC; Notice of Intent To File License Application, Filing of Pre-Application Document, Approving Use of the Traditional Licensing Process

a. Type of Filing: Notice of Intent to File License Application and Request to Use the Traditional Licensing Process.

b. Project No.: 14751-000.

c. Date Filed: January 28, 2016.

d. Submitted By: Alpine Pacific Utilities, LLC.

e. Name of Project: Fresno Dam Site Water Power Project.

f. Location: On the Milk River in Hill County, Montana near the town of Kremlin at the existing Bureau of Reclamation Fresno Dam.

g. Filed Pursuant to: 18 CFR 5.3 of the Commission's regulations.

h. Potential Applicant Contact: Justin D. Ahmann, Alpine Pacific Utilities, LLC, 111 Legend Trail, Kalispell, MT 59901.

i. FERC Contact: Ryan Hansen at (202) 502-8074; or email at ryan.hansen@ferc.gov.

j. Alpine Pacific Utilities, LLC filed its request to use the Traditional Licensing Process on February 2, 2016. Alpine Pacific Utilities, LLC provided public notice of its request on February 8, 2016. In a letter dated March 9, 2016, the Director of the Division of Hydropower Licensing approved Alpine Pacific Utilities, LLC's request to use the Traditional Licensing Process.

k. With this notice, we are initiating informal consultation with the U.S. Fish and Wildlife Service under section 7 of the Endangered Species Act and the joint agency regulations thereunder at 50 CFR part 402; and NOAA Fisheries under section 305(b) of the Magnuson-Stevens Fishery Conservation and Management Act and implementing regulations at 50 CFR 600.920. We are also initiating consultation with the Montana State Historic Preservation Officer, as required by section 106, National Historic Preservation Act, and the implementing regulations of the Advisory Council on Historic Preservation at 36 CFR 800.2.

l. Alpine Pacific Utilities, LLC filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

n. Register online at http://www.ferc.gov/docs-filing/esubscription.asp to be notified via email of new filing and issuances related to this or other pending projects. For assistance, contact FERC Online Support.

Dated: March 9, 2016.
Nathaniel J. Davis, Sr.,
Deputy Secretary.

[FR Doc. 2016-05774 Filed 3-14-16; 8:45 am]

BILLING CODE 6717-01-P